DEPARTMENT OF HEALTH AND HUMAN SERVICES

National Institutes of Health

National Center for Research Resources 2009 Strategic Plan

AGENCY: National Center for Research Resources, NIH, HHS.

ACTION: Notice.

SUMMARY: In order to prepare for the future, The National Center for Research Resources (NCRR), National Institutes of Health (NIH), is developing a new strategic plan. The purpose of the plan is to ensure that NCRR remains responsive to the emerging needs of biomedical researchers and provides them with the infrastructure, tools, and training they need to understand, detect, treat, and prevent a wide range of diseases. The NCRR requests input from biomedical scientists to define future needs for shared research resources and technologies that facilitate NIH-supported biomedical research. The NCRR's existing 2004-2008 strategic plan may be accessed over the World Wide Web: http://www.ncrr.nih.gov/about_us/StrategicPlan2004-08.pdf.

DATES: Submit responses to the Office of Science Policy and Public Liaison, NCRR (see below) on or before August 24, 2007.

FOR FURTHER INFORMATION CONTACT: The Office of Science Policy and Public Liaison, NCRR/NIH/DHHS, 6701 Democracy Boulevard, MSC 4874, Suite 994, Bethesda, MD 20892-4874, telephone 301-435-0866, FAX 301-480-3654, e-mail PLANEVAL@MAIL.NIH.GOV, Internet http://www.ncrr.nih.gov.

SUPPLEMENTARY INFORMATION: The National Center for Research Resources (NCRR) provides clinical and translational researchers with the training and tools they need to understand, detect, treat, and prevent a wide range of diseases. This support enables discoveries that begin at a molecular and cellular level, move to animal-based studies, and then are translated to patient-oriented clinical research, resulting in cures and treatments for both common and rare diseases. NCRR connects researchers with one another, as well as with patients and communities across the Nation, to harness the power of shared resources and research.

Transcending geographic boundaries and research disciplines, NCRR supports unique and essential research and resources that help to transform basic discoveries into improved human health. Together, the programs accelerate and enhance research along the entire continuum of biomedical science to:

• Fund clinical and translational science awards at academic health centers to speed basic discoveries into improved medical care. Working as a national Consortium, these institutions will develop novel approaches, enhance informatics, and improve training and mentoring that will be disseminated across the Consortium and beyond.

• Provide access to state-of-the-art technologies and instruments that enable both basic biomedical research and clinical investigations of a multitude of health issues, from cancer to infectious diseases.

• Develop and provide access to critical animal models, which offer essential clues to a broad range of human disorders such as Parkinson's disease, multiple sclerosis, and AIDS.

• Train veterinarians in translational research in order to respond to deadly human diseases, such SARS, influenza, and hepatitis.

• Enhance development programs for underserved states and institutions, focusing on health disparities that negatively impact racial and ethnic minority populations.

• Provide funding to expand, remodel, and renovate or alter existing research facilities or construct new research facilities.

• Fund career development programs that attract talented medical students, physicians, and dentists to the challenge of clinical research careers.

• Stimulate basic research to develop versatile new technologies and methods that help researchers to study virtually every human disease.

• Increase the public's understanding of medical research and delivers information about healthy living and career opportunities in science to children and the general public.

To ensure the continued relevance of its Strategic Plan, the NCRR seeks input to the following questions in terms of the issues described above:

• What are the most significant trends, developments, and/or needs in biomedical research that are likely to materialize over the next five years, and what can NCRR do to be prepared to respond to them?

• From the standpoint of achieving the broadest impact among investigators, what new or expanded research resources and/or animal models should be developed over the next five to eight years?

• The recently-introduced CTSA (Clinical Translational Science Award) Program seeks to transform the local, regional and national environment for clinical and translational science, thereby increasing the efficiency and speed of clinical and translational research. What considerations will be most crucial to the long-term success of this initiative?

• Despite significant progress, research institutions serving predominantly minority and underserved populations face stiff challenges. What can NCRR do to most effectively support the long-term advancement of these institutions?

• NCRR has, and will continue to, work closely with many federal and private sector institutions, agencies, and organizations. Looking forward, what organizations should NCRR seek out for future partnerships to most effectively support, expand, and advance its programs and services?

• Is there anything else you would like to add that would be helpful to NCRR?

For your convenience, we have provided a user-friendly response form at the NCRR's Strategic Planning Web site: http://www.ncrr.nih.gov/strategicplan. If you do not have access, please send your responses to the above address.

Dated: June 21, 2007.
Barbara Alving,
Director, NCRR, National Institutes of Health.

[FR Doc. E7-13131 Filed 7-5-07; 8:45 am]

BILLING CODE 4140-01-P